DEPARTMENT OF TRANSPORTATION

Federal Aviation Administration

14 CFR Parts 91, 121, 125, and 135

Announcement of Policy for Landing Performance Assessments After Departure for All Turbojet Operators

AGENCY: Federal Aviation Administration, DOT.

ACTION: Correction of Policy for Landing Performance Assessments After Departure for all Turbojet Operators.

SUMMARY: The Federal Aviation Administration is making minor changes to the Announcement of Policy for Landing Performance Assessments After Departure for All Turbojet Operators published in the Federal Register on June 7, 2006 (71 FR 32877).

DATES: Interested persons are invited to submit comments regarding this announcement. Comments must be received on or before July 3, 2006.

ADDRESSES: Comments should be e-mail to Jerry.Ostronic@faa.gov. or by facsimile to (202) 267-5229. Comments may also be submitted by mail or delivered to The Federal Aviation Administration, Air Transportation Division, 800 Independence Avenue, SW., Washington, DC 20591.

FOR FURTHER INFORMATION CONTACT: Air Transportation Division, AFS-200, 800 Independence Avenue, SW., Washington, DC 20591, and Telephone (202) 267-8166.

SUPPLEMENTARY INFORMATION: In the announcement published in the Federal Register on June 7, 2006 (71 FR 32877), the Federal Aviation Administration did not request comments. The administration would now invite comments regarding the announcement.

Corrections

In the announcement published in the Federal Register on June 7, 2006 (71 FR 32877), make the following corrections:

1. On page 32877, column 3, correct the text of the SUMMARY paragraph to read as follows:

SUMMARY: The following policy and information provides clarification and guidance for all operator of turbojet airplanes who hold Operations Specifications (OpSpecs) (excluding foreign operators), Management Specifications (MSpecs), or a part 125 Letter of Deviation Authority, for establishing operators' method of ensuring that sufficient landing distance exists for safely making a full stop landing with an acceptable safety margin, on the runway to be used, in the conditions existing at the time of arrival, and with the deceleration means and airplane configuration to be used.

2. On page 32880, column 2, correct the text of the first full paragraph under the New Requirements heading to read as the following:

New Requirements

The FAA will soon be issuing mandatory OpSpec/MSpec C082, “Landing Performance Assessments After Departure” for all turbojet operators under parts 121, 125, (including holders of a part 125 Letter of Deviation Authority), 135, and 91 subpart K. This OpSpec/MSpec will allow operations based on provisions as set forth in this notice. If not currently in compliance, all turbojet operators shall be brought into compliance with this notice and the requirements of OpSpec/MSpec C082 no later than October 1, 2006. The FAA anticipates that operators will be required to submit their proposed procedures for compliance with this notice and OpSpec/MSpec to their POI no later than September 1, 2006. When the operator demonstrates the ability to comply with the C082 authorization for landing distance assessments, and has complied with the training, and training program requirements below, OpSpec/MSpec C082 should be issued. OpSpec/MSpec C082 will be available from the FAA by July 20, 2006.

3. Page 32881, column 1, correct the date in the first line of the Requirements paragraph from September 1, 2006 to October 1, 2006.

Issued in Washington, DC, on June 12, 2006.
James J. Ballough,
Director, Flight Standards Service.

[FR Doc. 06-5449 Filed 6-13-06; 10:48 am]

BILLING CODE 4910-13-M